DEPARTMENT OF ENERGY

Federal Energy Regulatory Commission

[Docket No. RP99-518-013]

PG&E Gas Transmission, Northwest Corporation; Notice of Proposed Change in FERC Gas Tariff

May 4, 2000.

Take notice that on May 1, 2000, PG&E Gas Transmission, Northwest Corporation (PG&E GT-NW) tendered for filing as part of its FERC Gas Tariff, First Revised Volume No. 1-A, the following tariff sheets with an effective date of May 1, 2000:

Ninth Revised Sheet No. 7

Original Sheet No. 7.01

Original Sheet No. 7C

PG&E GT-NW states that these sheets are being filed to reflect the implementation of three negotiated rate agreements.

PG&E GT-NW further states that a copy of this filing has been served on PG&E GT-NW's jurisdictional customers, and interested state regulatory agencies.

Any person desiring to be heard or to protest said filing should file a motion to intervene or a protest with the Federal Energy Regulatory Commission, 888 First Street, N.E., Washington, D.C. 20426, in accordance with Section 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222) for assistance).

David P. Boergers,
Secretary.

[FR Doc. 00-11632 Filed 5-9-00; 8:45 am]

BILLING CODE 6717-01-M